DEPARTMENT OF COMMERCE

National Oceanic and Atmospheric Administration

50 CFR Parts 622 and 635

[Docket No. 060425111-6205-02; I.D. 041906B]

RIN 0648-AN09

Fisheries of the Caribbean, Gulf of Mexico, and South Atlantic; Reef Fish Fishery of the Gulf of Mexico; Amendment 18A; Correction

AGENCY: National Marine Fisheries Service (NMFS), National Oceanic and Atmospheric Administration (NOAA), Commerce.

ACTION: Correction to a final rule.

SUMMARY: This document contains a correction to the final regulations which were published Wednesday, August 9, 2006. Those regulations established a number of requirements to improve enforceability and monitoring in the reef fish fishery in the Gulf of Mexico.

DATES: The corrected effective date for regulations concerning §§ 622.4(h)(1) and 635.4(m)(1) published August 9, 2006, at 71 FR 45428 is October 1, 2006.

FOR FURTHER INFORMATION CONTACT: Rod Dalton, telephone 727-824-5305; fax 727-824-5308; e-mail Rod.Dalton@noaa.gov.

SUPPLEMENTARY INFORMATION:

Background

The final regulations that are the subject of this correction were published Wednesday, August 9, 2006, (71 FR 45428), [Docket No. 060425111-6205-02]. The final regulations established measures to improve enforceability and monitoring of the reef fish fishery in the Gulf of Mexico and to reduce mortality of incidentally caught sea turtles and smalltooth sawfish.

Need for Correction

As published, the final regulations contain an error in the DATES caption regarding the effective date for §§ 622.4(h)(1) and 635.4(m)(1) and requires correction.

Correction

Accordingly, the final rule, published on August 9, 2006, at 71 FR 45428, is corrected as follows:

On page 45428, in column 2, in the last line of the “DATES” caption, “September 1, 2006.” is corrected to read as “October 1, 2006.”

Dated: August 15, 2006.
Samuel D. Rauch III,
Deputy Assistant Administrator for Regulatory Programs, National Marine Fisheries Service.

[FR Doc. E6-13781 Filed 8-18-06; 8:45 am]

BILLING CODE 3510-22-S